DEPARTMENT OF TRANSPORTATION

Federal Aviation Administration

14 CFR Part 39

[Docket No. FAA-2010-0691; Directorate Identifier 2010-CE-027-AD]

RIN 2120-AA64

Airworthiness Directives; Eclipse Aerospace, Inc. Model EA500 Airplanes

AGENCY: Federal Aviation Administration (FAA), Department of Transportation (DOT).

ACTION: Notice of proposed rulemaking (NPRM).

SUMMARY: We propose to adopt a new airworthiness directive (AD) for certain Eclipse Aerospace, Inc. (Eclipse) Model EA500 airplanes. This proposed AD would require incorporating changes to the electronic flight information system and the airplane flight manuals. This proposed AD results from reports of uncommanded changes to the communications radio frequency, altitude preselect, and/or transponder codes. We are proposing this AD to correct faulty integration of hardware and software, which could result in unannunciated, uncommanded changes in communications radio frequency, transponder codes, and altitude preselect settings. These uncommanded changes could result in loss of communication with air traffic control due to improper communications frequency, autopilot level off at the incorrect altitude, or air traffic control loss of proper tracking of the aircraft.

DATES: We must receive comments on this proposed AD by August 23, 2010.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Eclipse Aerospace, Incorporated, 2503 Clark Carr Loop, SE., Albuquerque, New Mexico 87106; telephone: (505) 724-1200.

FOR FURTHER INFORMATION CONTACT: Eric Kinney, Aerospace Engineer, 2601 Meacham Blvd., Fort Worth, Texas 76137; telephone: (817) 222-5459; fax: (817) 222-5960.

SUPPLEMENTARY INFORMATION:

Comments Invited

We invite you to send any written relevant data, views, or arguments regarding this proposed AD. Send your comments to an address listed under the ADDRESSES section. Include the docket number, “FAA-2010-0691; Directorate Identifier 2010-CE-027-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have received reports of uncommanded changes in communications radio frequency, transponder codes, and altitude preselect settings on Eclipse EA500 airplanes. The majority of reports consisted of uncommanded transponder code changes, instances of uncommanded altitude preselect changes have also been noted. The uncommanded radio frequencies settings have only been reported during flight test. Root cause was determined to be a software communication integration issue between the EFIS display interface and associated hardware.

This condition, if not corrected, could result in uncommanded changes in communications radio frequency, transponder codes, and altitude preselect settings. These uncommanded changes could result in loss of communication with air traffic control due to improper communications frequency, autopilot level off at the incorrect altitude, or air traffic control loss of proper tracking of the aircraft.

Relevant Service Information

We have reviewed Eclipse Aviation Required Service Bulletin SB 500-31-015, REV D, dated January 14, 2009; and Eclipse Aviation Recommended Service Bulletin SB 500-99-005, REV A, dated February 16, 2009.

The service information describes procedures for incorporating changes to the electronic flight information system by the following means:

• the electronic flight instrument system 1.3 software update; and

• the avionics upgrade to AVIO NG + 1.5 configuration.

FAA's Determination and Requirements of the Proposed AD

We are proposing this AD because we evaluated all information and determined the unsafe condition described previously is likely to exist or develop on other products of the same type design. This proposed AD would require you to incorporate changes to the electronic flight information system and the airplane flight manuals.

Costs of Compliance

We estimate that this proposed AD would affect 168 airplanes in the U.S. registry.

Owners/operators would comply with this proposed AD action by doing either of the following update options. We have no way of knowing the number of airplanes that would receive each of these upgrades.

We estimate the following costs to do the proposed electronic flight instrument system 1.3 software update:

Labor cost | Parts cost | Total cost per airplane
2 work-hours × $85 per hour = $170 | $600 to $1,500 | $770 to $1,670.

We estimate the following costs to do the proposed avionics upgrade to AVIO NG + 1.5 configuration:

Labor cost | Parts cost | Total cost per airplane
198 work-hours × $85 per hour = $16,830 | $233,120 | $249,950

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Eclipse Aerospace, Inc.: Docket No. FAA-2010-0691; Directorate Identifier 2010-CE-027-AD.

Comments Due Date

(a) We must receive comments on this airworthiness directive (AD) action by August 23, 2010.

Affected ADs

(b) None.

Applicability

(c) This AD applies to Model EA500 airplanes with the following serial numbers (SNs) that are certificated in any category:

(1) SNs 000105 through 000112, 000116 through 000119, 000121 through 000122, and 000125 through 000260;

(2) SNs 000039 through 000104, 000113 through 000115, 000120, and 000123 through 000124, that incorporate Performance Enhancement & Drag Reduction Modification per any revision level of Eclipse SB 500-99-001; and

(3) SNs 000001 through 000038, that incorporate Performance Enhancement & Drag Reduction Modification per any revision level of Eclipse SB 500-99-001 and Avionics Upgrade to AVIO NG Configuration for ETT Configured Aircraft per any revision level of Eclipse SB 500-99-002.

Subject

(d) Air Transport Association of America (ATA) Code 23: Communications.

Unsafe Condition

(e) This AD results from reports of uncommanded changes to the communications radio frequency, altitude preselect, and/or transponder codes. We are issuing this AD to correct faulty integration of hardware and software, which could result in unannunciated, uncommanded changes in communications radio frequency, transponder codes, and altitude preselect settings. These uncommanded changes could result in loss of communication with air traffic control due to improper communications frequency, autopilot level off at the incorrect altitude, or air traffic control loss of proper tracking of the aircraft.

Compliance

(f) To address this problem, you must do the following, unless already done:

Actions | Compliance | Procedures
(1) Incorporate either of the following set of upgrades: (i) Electronic flight instrument system (EFIS) 1.3 software update with one of the following airplane flight manual revisions: | Incorporate within the next 6 months after the effective date of this AD. | Follow, as appropriate, Eclipse Aviation Required Service Bulletin SB 500-31-015, REV D, dated January 14, 2009; or Eclipse Aviation Recommended Service Bulletin SB 500-99-005, REV A, dated February 16, 2009.
(A) Temporary Revision (TR) 010, Airplane Flight Manual part number (P/N) 06-122204 Before 3-45, Revision 01 and TR 009, Quick Reference Handbook P/N 06-122205, Revision 01; (B) TR 010A, Airplane Flight Manual P/N 06-122204 Before 3-51, Revision 02 and TR 009A, Quick Reference Handbook P/N 06-122205, Revision 02, or (C) Airplane Flight Manual P/N 06-122204 Revision 3, dated February 3, 2010, and Quick Reference Handbook P/N 06-122205, Revision 03.
(ii) Avionics upgrade to AVIO NG + 1.5 Configuration and Aircraft Flight Manual, P/N 06-122204, Revision 2, dated November 7, 2008, or AVIO NG + 1.5 configuration and Aircraft Flight Manual, P/N 06-122204, Revision 3, dated February 10, 2010.
(2) Send the completed service bulletin compliance record required by paragraph (f)(1)(i) of this AD or paragraph (f)(1)(ii) of this AD to the address identified in paragraph (g) of this AD. The Office of Management and Budget (OMB) approved the information collection requirements contained in this regulation under the provisions of the Paperwork Reduction Act of 1980 (44 U.S.C. 3501 et seq.) and assigned OMB Control Number 2120-0056. | Within 30 days after you incorporate the revisions required by paragraph (f)(1)(i) of this AD or paragraph (f)(1)(ii) of this AD or within 30 days after the effective date of this AD, whichever occurs later. | Not Applicable.

Alternative Methods of Compliance (AMOCs)

(g) The Manager, Fort Worth Airplane Certification Office (ACO), FAA, has the authority to approve AMOCs for this AD, if requested using the procedures found in 14 CFR 39.19. Send information to ATTN: Eric Kinney, Fort Worth ACO, Aerospace Engineer, 2601 Meacham Blvd., Fort Worth, Texas 76137; telephone: (817) 222-5459; fax: (817) 222-5960. Before using any approved AMOC on any airplane to which the AMOC applies, notify your appropriate principal inspector (PI) in the FAA Flight Standards District Office (FSDO), or lacking a PI, your local FSDO.

Related Information

(h) To get copies of the service information referenced in this AD, contact Eclipse Aviation Corporation, 2503 Clark Carr Loop, SE., Albuquerque, New Mexico 87106; telephone: (505) 724-1200. To view the AD docket, go to U.S. Department of Transportation, Docket Operations, M-30, West Building Ground Floor, Room W12-140, 1200 New Jersey Avenue, SE., Washington, DC 20590, or on the Internet at http://www.regulations.gov.

Issued in Kansas City, Missouri, on July 1, 2010.
James E. Jackson,
Acting Manager, Small Airplane Directorate, Aircraft Certification Service.

[FR Doc. 2010-16740 Filed 7-8-10; 8:45 am]

BILLING CODE 4910-13-P